DEPARTMENT OF EDUCATION

Notice of Proposed Information Collection Requests

AGENCY: Department of Education.

ACTION: Correction notice.

SUMMARY: On April 27, 2007, the Department of Education published a notice in the Federal Register (Page 20998, Column 1) for the information collection, “The Effect of Connected Mathematics 2 (CM2) on the Math Achievement of Middle School Students”. This notice hereby corrects the reporting and recordkeeping hour burden to 15,383 responses and 6,407 hours. The IC Clearance Official, Regulatory Information Management Services, Office of Management, hereby issues a correction notice as required by the Paperwork Reduction Act of 1995.

Dated: May 2, 2007.
Angela C. Arrington,
IC Clearance Official, Regulatory Information Management Services, Office of Management.

[FR Doc. E7-8877 Filed 5-8-07; 8:45 am]

BILLING CODE 4000-01-P